DEPARTMENT OF ENERGY

Federal Energy Regulatory Commission

[Docket No. IC01-525-000, FERC 525]

Proposed Information Collection and Request for Comments

March 29, 2001.

AGENCY: Federal Energy Regulatory Commission, DOE.

ACTION: Notice of proposed information collection and request for comments.

SUMMARY: In compliance with the requirements of Section 3506(c)(2)(2)(a) of the Paperwork Reduction Act of 1995 (Pub. L. No. 104-13), the Federal Energy Regulatory Commission (Commission) is soliciting public comment on the specific aspects of the information collection described below.

DATES: Consideration will be given to comments submitted on or before June 4, 2001.

ADDRESSES: Copies of the proposed collection of information can be obtained from and written comments may be submitted to the Federal Energy Regulatory Commission, Attn: Michael Miller, Office of the Chief Information Officer, CI-1, 888 First Street, NE., Washington, DC 20426.

FOR FURTHER INFORMATION CONTACT: Michael Miller may be reached by telephone at (202) 208-1415, by fax at (202) 208-2425, and by e-mail at mike.miller@ferc.fed.us

SUPPLEMENTARY INFORMATION: The information collected under the requirements of FERC-525 “Financial Audits” (OMB No. 1902-0092) is used by the Commission to implement the statutory provisions of sections 4(b), 301(b), 302, 307 and 308 of the Federal Power Act (FPA), 16 U.S.C. 792-8280, sections 6, 8(b), 9 and 10 of the Natural Gas Act (NGA), and sections 19 and 20 of the Interstate Commerce Act, 49 U.S.C. 20. FERC-525 involves field audits of books and records of public utilities and licenses, natural gas companies and oil pipeline carriers.

The Commission performs limited scope industry-wide audits to identify systematic problems and ensure that companies' financial records conform with the Commission's accounting, financial reporting, and other regulations established under the mandatory provisions of the statutes listed above.

The Commission issued Order Nos. 636, 888 and 2000 for the purpose of restructuring the natural gas and electric industries in order to foster competition. The Commission also targets its audits to concentrate on judicial companies compliance with these orders. The Commission implements these filing requirements in the Code of Federal Regulations (CFR) under 18 CFR parts 41, 101, 104, 125, 141, 158, 201, 225, 260, 351, 352, 356, 357.

Action: The Commission is requesting a three-year extension of the current expiration date.

Burden Statement: Public Reporting burden for this collection is estimated as:

No. of respondents annually | No. of responses per respondent | Average burden hours per response | Total annual burden hours
(1) | (2) | (3) | (1)×(2)×(3)
50 | 1 | 100 | 5,000

Estimated cost burden to respondents: 5,000 hours divided by 2080 hours per year times $117,041 per year equals $281,349. The cost per respondent is equal to $5,627. The reporting burden includes the total time, effort, or financial resources expended to generate, maintain, retain, disclose, or provide the information including: (1) Reviewing instructions; (2) developing, acquiring, installing, and utilizing technology and systems for the purposes of collecting, validating verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These coats apply to activities which benefit the whole organization rather than any one particular function or activity.

Comments are invited on: (1) Whether the proposed collection of information is necessary for the proper performance of the functions of the Commission, including whether the information will have practical utility; (2) the accuracy of the Commission's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

David P. Boergers,
Secretary.

[FR Doc. 01-8219 Filed 4-3-01; 8:45 am]

BILLING CODE 6717-01-M